DEPARTMENT OF ENERGY

Federal Energy Regulatory Commission

Combined Notice of Filings #1

Take notice that the Commission received the following electric rate filings:

Docket Numbers: ER13-2387-010; ER15-190-020; ER18-1343-013.

Applicants: Carolina Solar Power, LLC, Duke Energy Renewable Services, LLC, Duke Energy Florida, Inc.

Description: Amendment to July 28, 2022, Notice of Non-Material Change in Status of Duke Energy Florida, LLC, et al.

Filed Date: 9/27/22.

Accession Number: 20220927-5145.

Comment Date: 5 p.m. ET 10/18/22.

Docket Numbers: ER20-2101-002.

Applicants: Fern Solar LLC.

Description: Supplement to July 26, 2022, Notice of Non-Material Change in Status of Fern Solar LLC.

Filed Date: 9/27/22.

Accession Number: 20220927-5144.

Comment Date: 5 p.m. ET 10/18/22.

Docket Numbers: ER22-495-002.

Applicants: Midcontinent Independent System Operator, Inc.

Description: Compliance filing: 2022-09-29_Compliance Seasonal Construct and Availability based accreditation to be effective 9/1/2022.

Filed Date: 9/29/22.

Accession Number: 20220929-5122.

Comment Date: 5 p.m. ET 10/20/22.

Docket Numbers: ER22-2110-001.

Applicants: PJM Interconnection, L.L.C.

Description: Tariff Amendment: Response to Deficiency Letter to be effective 11/30/2022.

Filed Date: 9/29/22.

Accession Number: 20220929-5127.

Comment Date: 5 p.m. ET 10/20/22.

Docket Numbers: ER22-2379-001.

Applicants: Southwest Power Pool, Inc.

Description: Tariff Amendment: 3979SO Ponderosa Wind II GIA and Deficiency Response to be effective7/12/2022.

Filed Date: 9/29/22.

Accession Number: 20220929-5060.

Comment Date: 5 p.m. ET 10/20/22.

Docket Numbers: ER22-2951-000.

Applicants: Rivercrest Power-South, LLC.

Description: § 205(d) Rate Filing: Normal filing 2022 new name to be effective 9/29/2022.

Filed Date: 9/28/22.

Accession Number: 20220928-5144.

Comment Date: 5 p.m. ET 10/19/22.

Docket Numbers: ER22-2952-000.

Applicants: Public Service Company of New Mexico.

Description: § 205(d) Rate Filing: Executed Engineering and Procurement Agreement between PNM and Sandia Peak Grid to be effective 9/1/2022.

Filed Date: 9/29/22.

Accession Number: 20220929-5001.

Comment Date: 5 p.m. ET 10/20/22.

Docket Numbers: ER22-2953-000.

Applicants: Public Service Company of New Hampshire, ISO New England Inc.

Description: § 205(d) Rate Filing: Public Service Company of New Hampshire submits tariff filing per 35.13(a)(2)(iii: PNSH Establishment of Depreciation Rates for Account Nos. 357 and 358 to be effective 12/1/2022.

Filed Date: 9/29/22.

Accession Number: 20220929-5013.

Comment Date: 5 p.m. ET 10/20/22.

Docket Numbers: ER22-2954-000.

Applicants: PJM Interconnection, L.L.C.

Description: § 205(d) Rate Filing: Original ISA, Service Agreement No. 6655; Queue No. AF2-138 to be effective 9/3/2022.

Filed Date: 9/29/22.

Accession Number: 20220929-5046.

Comment Date: 5 p.m. ET 10/20/22.

Docket Numbers: ER22-2955-000.

Applicants: Public Service Company of Colorado.

Description: § 205(d) Rate Filing: 2022-09-29 Ministerial Revisions to Att O-SPS to be effective 1/1/2023.

Filed Date: 9/29/22.

Accession Number: 20220929-5064.

Comment Date: 5 p.m. ET 10/20/22.

Docket Numbers: ER22-2956-000.

Applicants: California Independent System Operator Corporation.

Description: § 205(d) Rate Filing: 2022-09-29 Tariff Clarifications—Price Corrections and Cluster 14 to be effective 11/29/2022.

Filed Date: 9/29/22.

Accession Number: 20220929-5075.

Comment Date: 5 p.m. ET 10/20/22.

Docket Numbers: ER22-2957-000.

Applicants: Ashtabula Wind I, LLC.

Description: Baseline eTariff Filing: Second Amended and Restated CFA with Otter Tail to be effective 1/2/2023.

Filed Date: 9/29/22.

Accession Number: 20220929-5080.

Comment Date: 5 p.m. ET 10/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2022.
Debbie-Anne A. Reese,
Deputy Secretary.

[FR Doc. 2022-21613 Filed 10-4-22; 8:45 am]

BILLING CODE 6717-01-P